DEPARTMENT OF COMMERCE

International Trade Administration

[C-570-144]

Freight Rail Coupler Systems and Certain Components Thereof From the People's Republic of China: Initiation of Countervailing Duty Investigation

AGENCY: Enforcement and Compliance, International Trade Administration, Department of Commerce.

DATES: Applicable October 19, 2021.

FOR FURTHER INFORMATION CONTACT: Whitley Herndon, AD/CVD Operations, Office V, Enforcement and Compliance, International Trade Administration, U.S. Department of Commerce, 1401 Constitution Avenue NW, Washington, DC 20230; telephone: (202) 482-6274.

SUPPLEMENTARY INFORMATION:

The Petition

On September 29, 2021, the U.S. Department of Commerce (Commerce) received a countervailing duty (CVD) petition concerning imports of freight rail coupler systems and certain components thereof (freight rail couplers) from the People's Republic of China (China) filed in proper form on behalf of the Coalition of Freight Coupler Producers (the petitioner).¹ On October 6, 2021, the petitioner filed an amendment to the Petition, clarifying the identity of the members of the Coalition of Freight Coupler Producers, the members of which are, or represent, domestic producers of freight rail couplers.² The Petition was accompanied by an antidumping duty (AD) petition concerning freight rail couplers from China.³

¹ See Petitioner's Letter, “Certain Freight Rail Coupler Systems and Components Thereof from the People's Republic of China: Petitions for the Imposition of Antidumping and Countervailing Duties,” dated September 29, 2021 (the Petition).

² See Petitioner's Letters, “Amended Entry of Appearance: C-570-144,” dated October 6, 2021 (Amended EOA); and “Freight Rail Coupler Systems and Certain Components Thereof from the People's Republic of China: Response to First Supplemental Questions for on Volume I General Issues and Injury Petition,” dated October 6, 2021 (First General Issues Supplement). The petitioner notes that, per the Amended EOA, the members of the Coalition of Freight Coupler Producers are: McConway & Torley, LLC and the United Steel, Paper & Forestry, Rubber, Manufacturing, Energy, Allied Industrial and Service Worker International Union, AFL-CIO, CLC (the USW). The petitioner further notes that Amsted Rail Company, Inc. (Amsted) is no longer a member of the petitioning coalition and that the USW represents the workers at Amsted's Granite, IL facility. See First General Issues Supplement at 8.

³ See the Petition.

On October 1, 4, 8, and 15, 2021, Commerce requested supplemental information pertaining to certain aspects of the Petition.⁴ On October 6, 7, 12, and 18, 2021, the petitioner filed timely responses to these requests for additional information.⁵

⁴ See Commerce's Letters, “Petitions for the Imposition of Antidumping and Countervailing Duties on Imports of Certain Freight Rail Coupler Systems and Components Thereof from the People's Republic of China: Supplemental Questions,” dated October 4, 2021 (General Issues Supplemental); “Petition for the Imposition of Antidumping Duties on Imports of Certain Freight Rail Coupler Systems and Components Thereof from the People's Republic of China: Supplemental Questions,” dated October 4, 2021; Memorandum, “Petitions for the Imposition of Antidumping and Countervailing Duties on Imports of Certain Freight Rail Coupler Systems and Components Thereof from the People's Republic of China: Phone Call with Counsel to the Petitioner,” dated October 4, 2021 (October 4, 2021, Phone Call Memorandum); Memorandum, “Petitions for the Imposition of Antidumping and Countervailing Duties on Imports of Certain Freight Rail Coupler Systems and Components Thereof from the People's Republic of China: Phone Call with Counsel to the Petitioner,” dated October 8, 2021 (October 8, 2021, Phone Call Memorandum); and Memorandum, “Petitions for the Imposition of Antidumping and Countervailing Duties on Imports of Certain Freight Rail Coupler Systems and Components Thereof from the People's Republic of China: Phone Call with Counsel to the Petitioner,” dated October 15, 2021 (October 15, 2021, Phone Call Memorandum).

⁵ See Petitioner's Letters, “Freight Rail Coupler Systems and Components Thereof from the People's Republic of China: Responses to Supplemental Questions for on Volume I General Issues and Injury Petition,” dated October 6, 2021 (First General Issues Supplement); see also Petitioner's Letter, “Freight Rail Car Coupler Systems and Certain Components Thereof from the People's Republic of China: Response to Supplemental Questions on Volume III China Countervailing Duty Petition—Questions 9 and 11,” dated October 7, 2021; “Freight Rail Car Coupler Systems and Certain Components Thereof from the People's Republic of China: Response to Second Supplemental Questions on Volume I General Issues and Injury Petition,” dated October 12, 2021 (Second General Issues Supplement); and “Freight Rail Car Coupler Systems and Certain Components Thereof from the People's Republic of China: Response to Third Supplemental Questions on Volume I General Issues and Injury Petition,” dated October 18, 2021 (Scope Clarification).

In accordance with section 702(b)(1) of the Tariff Act of 1930, as amended (the Act), the petitioner alleges that the Government of China (GOC) is providing countervailable subsidies, within the meaning of sections 701 and 771(5) of the Act, to producers of freight rail couplers in China and that such imports are materially injuring, or threatening material injury to, the domestic industry producing in the United States. Consistent with section 702(b)(1) of the Act and 19 CFR 351.202(b), for those alleged programs on which we are initiating a CVD investigation, the Petition is supported by information reasonably available to the petitioner.

Commerce finds that the petitioner filed the Petition on behalf of the domestic industry because the petitioner is an interested party as defined in section 771(9)(E) of the Act. Commerce also finds that the petitioner demonstrated sufficient industry support with respect to the initiation of the requested CVD investigation.⁶

⁶ See “Determination of Industry Support for the Petition” section, infra.

Period of Investigation

Because the Petition was filed on September 29, 2021, the period of investigation is January 1, 2020, through December 31, 2020.⁷

⁷ See 19 CFR 351.204(b)(2).

Scope of the Investigation

The merchandise covered by this investigation is freight rail couplers from China. For a full description of the scope of this investigation, see the appendix to this notice.

Comments on Scope of the Investigation

On October 1, 4, 8, and 15, 2021, Commerce requested further information from the petitioner regarding the proposed scope to ensure that the scope language in the Petition is an accurate reflection of the products for which the domestic industry is seeking relief.⁸ On October 6, 12, and 18, 2021, the petitioner revised the scope.⁹ The description of the merchandise covered by this investigation, as described in the appendix to this notice, reflects these clarifications. In its October 18, 2021, submission, the petitioner provided additional explanation of the language in the scope of the investigation pertaining to the inclusion of freight rail couplers imported as part of a rail car (“{w}hen mounted on or to other non-subject merchandise, such as a rail car, only the complete coupler system is covered by the scope”), including freight rail couplers attached to rail cars in, and imported from, third countries (“{s}ubject merchandise includes coupler components as defined above that have been further processed or further assembled, including those coupler components attached to a rail car in third countries.”).¹⁰ While Commerce has adopted this provision for purposes of initiation, we invite parties to this proceeding to comment on this provision along with their scope comments (as detailed below).

⁸ See First General Issues Supplement Questionnaire; see also October 4, 2021, Phone Call Memorandum; October 8, 2021, Phone Call Memorandum; and October 15, 2021, Phone Call Memorandum.

⁹ See First General Issues Supplement at 1-7 and Exhibit I-Supp-1; see also Second General Issues Supplement at 1-4 and Exhibit I-2Supp-1; and Scope Clarification at Exhibit I-3Supp-1.

¹⁰ See Scope Clarification.

As discussed in the Preamble to Commerce's regulations, we are setting aside a period for interested parties to raise issues regarding product coverage (i.e., scope).¹¹ Commerce will consider all comments received from interested parties and, if necessary, will consult with interested parties prior to the issuance of the preliminary determination. If scope comments include factual information, all such factual information should be limited to public information.¹² To facilitate preparation of its questionnaires, Commerce requests that all interested parties submit scope comments by 5:00 p.m. Eastern Time (ET) on November 8, 2021, which is 20 calendar days from the signature date of this notice.¹³ Any rebuttal comments, which may include factual information, must be filed by 5:00 p.m. ET on November 18, 2021, which is 10 calendar days from the initial comment deadline.¹⁴

¹¹ See Antidumping Duties; Countervailing Duties, 62 FR 27296, 27323 (May 19, 1997) (Preamble).

¹² See 19 CFR 351.102(b)(21) (defining “factual information”).

¹³ See 19 CFR 351.303(b).

¹⁴ Commerce's practice dictates that where a deadline falls on a weekend or Federal holiday, the appropriate deadline is the next business day. See Notice of Clarification: Application of “Next Business Day” Rule for Administrative Determination Deadlines Pursuant to the Tariff Act of 1930, As Amended, 70 FR 24533 (May 10, 2005); see also 19 CFR 351.303(b).

Commerce requests that any factual information that the parties consider relevant to the scope of the investigation be submitted during this time period. However, if a party subsequently finds that additional factual information pertaining to the scope of the investigation may be relevant, the party may contact Commerce and request permission to submit the additional information. All scope comments must also be filed on the record of the concurrent AD and CVD investigations.

Filing Requirements

All submissions to Commerce must be filed electronically via Enforcement and Compliance (E&C)'s Antidumping Duty and Countervailing Duty Centralized Electronic Service System (ACCESS), unless an exception applies.¹⁵ An electronically filed document must be received successfully in its entirety by the time and date it is due.

¹⁵ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOC of the receipt of the Petition and provided it the opportunity for consultations with respect to the CVD Petition.¹⁶ The GOC requested consultations,¹⁷ which were held via video conference on October 18, 2021.¹⁸

¹⁶ See Commerce's Letter, “Countervailing Duty Petition on Certain Freight Rail Coupler Systems and Components Thereof from the People's Republic of China,” dated September 29, 2021.

¹⁷ See GOC's Letter, “Certain Freight Rail Coupler Systems and Components Thereof from the People's Republic of China: Request for Consultation to Discuss the Countervailing Duty Investigation Petition,” dated October 11, 2021.

¹⁸ See Memorandum, “Petitions for the Imposition of Countervailing Duties on Imports of Certain Freight Rail Coupler Systems and Components Thereof from the People's Republic of China: Consultations with Officials from the Government of China,” dated October 18, 2021.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁹ they do so for different purposes and pursuant to a separate and distinct authority. In addition, Commerce's determination is subject to limitations of time and information. Although this may result in different definitions of the like product, such differences do not render the decision of either agency contrary to law.²⁰

¹⁹ See section 771(10) of the Act.

²⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.²¹ Based on our analysis of the information submitted on the record, we have determined that freight rail couplers, as defined in the scope, constitute a single domestic like product, and we have analyzed industry support in terms of that domestic like product.²²

²¹ See Petition at Volume I at 16-21 and Exhibits I-4, I-7, and I-15; see also First General Issues Supplement at 10-11; and Second General Issues Supplement at 6-7.

²² For a discussion of the domestic like product analysis as applied to this case and information regarding industry support, see Checklist, “Countervailing Duty Investigation Initiation Checklist: Certain Freight Rail Coupler Systems and Components Thereof from the People's Republic of China,” dated concurrently with this Federal Register notice (China CVD Initiation Checklist) at Attachment II, Analysis of Industry Support for the Antidumping and Countervailing Duty Petitions Covering Certain Freight Rail Coupler Systems and Components Thereof from the People's Republic of China (Attachment II).

In determining whether the petitioner has standing under section 702(c)(4)(A) of the Act, we considered the industry support data contained in the Petition with reference to the domestic like product as defined in the “Scope of the Investigation,” in the appendix to this notice. To establish industry support, the petitioner provided its own production of freight rail couplers in 2020.²³ The petitioner estimated production for the only other known producer of freight rail couplers in the United States.²⁴ The petitioner compared its production to the estimated total 2020 production of the domestic like product for the entire domestic industry.²⁵ We relied on data provided by the petitioner for purposes of measuring industry support.²⁶

²³ See Petition at Volume I at 3-4; see also First General Issues Supplement at 8-10 and Exhibit I-Supp-2; and Second General Issues Supplement at 4-5.

²⁴ See Petition at Volume I at 3-4 and Exhibit I-5; see also First General Issues Supplement at 9-10 and Exhibit I-Supp-2; and Second General Issues Supplement at 5 and Exhibit I-2Supp-2.

²⁵ See Petition at Volume I at 3-4 and Exhibit I-5; see also First General Issues Supplement at 8-10 and Exhibit I-Supp-2; and Second General Issues Supplement at 5.

²⁶ See Petition at Volume I at 2-4 and Exhibits I-3 through I-5; see also First General Issues Supplement at 7-10 and Exhibits I-Supp-2 and I-Supp-3; and Second General Issues Supplement at 4-5 and Exhibit I-2Supp-2.

On October 7, 2021, we received comments on industry support from Wabtec Corporation (Wabtec), a U.S. importer of freight rail couplers.²⁷ On October 8, 2021, the petitioner responded to the comments from Wabtec.²⁸ On October 12, 2021, we received additional comments from Wabtec.²⁹ On October 13, 2021, we received comments on industry support from Strato, Inc. (Strato), a U.S. importer of freight rail couplers.³⁰ On October 14, 2021, the petitioner responded to the comments from Strato and Wabtec.³¹

²⁷ See Wabtec's Letter, “Certain Freight Rail Coupler Systems and Components Thereof from the People's Republic of China: Request for Department to Deny the Petitions for Imposition of Duties Filed by the Coalition of Freight Coupler Producers as Legally Infirm,” dated October 7, 2021.

²⁸ See Petitioner's Letter, “Freight Rail Coupler Systems and Certain Components Thereof from the People's Republic of China: Response to Wabtec,” dated October 8, 2021 (Petitioner Letter I).

²⁹ See Wabtec's Letter, “Certain Freight Rail Coupler Systems and Components Thereof from the People's Republic of China: Reply in Support of Request for Department to Deny the Petitions for Imposition of Duties Filed by the Coalition of Freight Coupler Producers,” dated October 12, 2021.

³⁰ See Strato's Letter, “Strato Support for Rejecting Petition: Antidumping & Countervailing Duty Investigation of Freight Rail Coupler Systems and Components Thereof from the People's Republic of China,” dated October 13, 2021.

³¹ See Petitioner's Letter, “Freight Rail Car Coupler Systems and Certain Components Thereof from the People's Republic of China: Response to Strato and Wabtec,” dated October 14, 2021 (Petitioner Letter II).

Our review of the data provided in the Petition, the First General Issues Supplement, the Second General Issues Supplement, Petitioner Letters I and II, and other information readily available to Commerce indicates that the petitioner has established industry support for the Petition.³² First, the Petition established support from domestic producers (or workers) accounting for more than 50 percent of the total production of the domestic like product and, as such, Commerce is not required to take further action in order to evaluate industry support (e.g., polling).³³ Second, the domestic producers (or workers) have met the statutory criteria for industry support under section 702(c)(4)(A)(i) of the Act because the domestic producers (or workers) who support the Petition account for at least 25 percent of the total production of the domestic like product.³⁴ Finally, the domestic producers (or workers) have met the statutory criteria for industry support under section 702(c)(4)(A)(ii) of the Act because the domestic producers (or workers) who support the Petition account for more than 50 percent of the production of the domestic like product produced by that portion of the industry expressing support for, or opposition to, the Petition.³⁵ Accordingly, Commerce determines that the Petition was filed on behalf of the domestic industry within the meaning of section 702(b)(1) of the Act.³⁶

³² See China CVD Initiation Checklist at Attachment II.

³³ Id.; see also section 702(c)(4)(D) of the Act.

³⁴ See China CVD Initiation Checklist at Attachment II.

³⁵ Id.

³⁶ Id.

Injury Test

Because China is a “Subsidies Agreement Country” within the meaning of section 701(b) of the Act, section 701(a)(2) of the Act applies to this investigation. Accordingly, the ITC must determine whether imports of the subject merchandise from China materially injure, or threaten material injury to, a U.S. industry.

Allegations and Evidence of Material Injury and Causation

The petitioner alleges that imports of the subject merchandise are benefitting from countervailable subsidies and that such imports threaten to cause material injury to the U.S. industry producing the domestic like product. In addition, the petitioner alleges that subject imports exceed the negligibility threshold provided for under section 771(24)(A) of the Act.³⁷

³⁷ See Petition at Volume I at 27 and Exhibit I-27.

The petitioner contends that the industry's injured condition is illustrated by a significant volume of subject imports; reduced market share; underselling and price depression and/or suppression; lost sales and revenues; declines in production, U.S. shipments, and capacity utilization; decline in employment; and decline in financial performance.³⁸ We assessed the allegations and supporting evidence regarding material injury, threat of material injury, causation, as well as negligibility, and we have determined that these allegations are properly supported by adequate evidence and meet the statutory requirements for initiation.³⁹

³⁸ Id. at 14-16, 22-44 and Exhibits I-3 through I-5, I-11, I-13, I-14, and I-17 through I-47; see also First General Issues Supplement at 11-13 and Exhibit I-Supp-3.

³⁹ See China CVD Initiation Checklist at Attachment III, Analysis of Allegations and Evidence of Material Injury and Causation for the Antidumping and Countervailing Duty Petitions Covering Certain Freight Rail Coupler Systems and Components Thereof from the People's Republic of China.

Initiation of CVD Investigation

Based upon our examination of the Petition and supplemental responses, we find that the Petition meets the requirements of section 702 of the Act. Therefore, we are initiating a CVD investigation to determine whether imports of freight rail couplers from China benefit from countervailable subsidies conferred by the GOC. Based on our review of the Petition, we find that there is sufficient information to initiate a CVD investigation on 33 of the 35 alleged programs. Additionally, we find that there is sufficient information to initiate on the allegation of the creditworthiness of CRRC Corporation Limited (CRRC) and will explore this allegation in the investigation should CRRC be selected as a mandatory respondent. For a full discussion of the basis for our decision to initiate on each program, see China CVD Initiation Checklist. The initiation checklist for this investigation is available on ACCESS. In accordance with section 703(b)(1) of the Act and 19 CFR 351.205(b)(1), unless postponed, we will make our preliminary determination no later than 65 days after the date of this initiation.

Respondent Selection

The petitioner named eight companies in China as producers and/or exporters of freight rail couplers.⁴⁰ Commerce intends to follow its standard practice in CVD investigations and calculate company-specific subsidy rates in this investigation. In the event that Commerce determines that the number of companies is large and it cannot individually examine each company based upon Commerce's resources, where appropriate, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) subheadings listed in the scope of the investigation. However, for this investigation, one of the HTSUS subheadings under which the subject merchandise would enter (i.e., 8607.30.1000) is a basket category under which non-subject merchandise may enter. Therefore, we cannot rely on CBP entry data in selecting respondents. We intend instead to issue Q&V questionnaires to each potential respondent for which the petitioner has provided a complete address.

⁴⁰ See Petition at Volume I at Exhibit I-10.

Producers/exporters of freight rail couplers from China that do not receive Q&V questionnaires by mail may still submit a response to the Q&V questionnaire and can obtain the Q&V questionnaire from E&C's website at https://enforcement.trade.gov/questionnaires/questionnaires-ad.html. Responses to the Q&V questionnaire must be submitted by the relevant Chinese producers/exporters no later than 5:00 p.m. ET on November 2, 2021. All Q&V responses must be filed electronically via ACCESS. An electronically filed document must be received successfully, in its entirety, by ACCESS no later than 5:00 p.m. ET on the deadline noted above.

Interested parties must submit applications for disclosure under Administrative Protective Order (APO) in accordance with 19 CFR 351.305(b). Instructions for filing such applications may be found on E&C's website at http://enforcement.trade.gov/apo. Commerce intends to finalize its decisions regarding respondent selection within 20 days of publication of this notice.

Distribution of Copies of the Petition

In accordance with section 702(b)(4)(A) of the Act and 19 CFR 351.202(f), a copy of the public version of the Petition has been provided to the GOC via ACCESS. Furthermore, to the extent practicable, Commerce will attempt to provide a copy of the public version of the Petition to each exporter named in the Petition, as provided under 19 CFR 351.203(c)(2).

ITC Notification

Commerce will notify the ITC of its initiation, as required by section 702(d) of the Act.

Preliminary Determination by the ITC

The ITC will preliminarily determine, within 45 days after the date on which the Petition was filed, whether there is a reasonable indication that imports of freight rail couplers from China are materially injuring, or threatening material injury to, a U.S. industry.⁴¹ A negative ITC determination will result in the investigation being terminated.⁴² Otherwise, this investigation will proceed according to statutory and regulatory time limits.

⁴¹ See section 703(a)(1) of the Act.

⁴² Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴³ and, if the information is submitted to rebut, clarify, or correct factual information already on the record, to provide an explanation identifying the information already on the record that the factual information seeks to rebut, clarify, or correct.⁴⁴ Time limits for the submission of factual information are addressed in 19 CFR 351.301, which provides specific time limits based on the type of factual information being submitted. Interested parties should review the regulations prior to submitting factual information in this investigation.

⁴³ See 19 CFR 351.301(b).

⁴⁴ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301.⁴⁵ For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances we will grant untimely-filed requests for the extension of time limits. Parties should review Commerce's regulations concerning the extension of time limits and the Time Limits Final Rule prior to submitting extension requests or factual information in this investigation.⁴⁶

⁴⁵ See 19 CFR 351.302.

⁴⁶ See 19 CFR 351; see also Extension of Time Limits; Final Rule, 78 FR 57790 (September 20, 2013) (Time Limits Final Rule), available at http://www.gpo.gov/fdsys/pkg/FR-2013-09-20/html/2013-22853.htm.

Certification Requirements

Any party submitting factual information in an AD or CVD proceeding must certify to the accuracy and completeness of that information.⁴⁷ Parties must use the certification formats provided in 19 CFR 351.303(g).⁴⁸ Commerce intends to reject factual submissions if the submitting party does not comply with the applicable certification requirements.

⁴⁷ See section 782(b) of the Act.

⁴⁸ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under administrative protective order in accordance with 19 CFR 351.305. Parties wishing to participate in this investigation should ensure that they meet the requirements of document submission procedures (e.g., the filing of letters of appearance as discussed at 19 CFR 351.103(d)).⁴⁹ Note that Commerce has temporarily modified certain of its requirements for serving documents containing business proprietary information, until further notice.⁵⁰

⁴⁹ See Antidumping and Countervailing Duty Proceedings: Documents Submission Procedures; APO Procedures, 73 FR 3634 (January 22, 2008).

⁵⁰ See Temporary Rule Modifying AD/CVD Service Requirements Due to COVID-19; Extension of Effective Period, 85 FR 41363 (July 10, 2020).

This notice is issued and published pursuant to sections 702 and 777(i) of the Act, and 19 CFR 351.203(c).

Dated: October 19, 2021.
Ryan Majerus,
Deputy Assistant Secretary for Policy and Negotiations, performing the non-exclusive functions and duties of the Assistant Secretary for Enforcement and Compliance.

Appendix—Scope of the Investigation

The scope of this investigation covers freight rail car coupler systems and certain components thereof. Freight rail car coupler systems are composed of, at minimum, four main components (knuckles, coupler bodies, coupler yokes, and follower blocks, as specified below) but may also include other items (e.g., coupler locks, lock lift assemblies, knuckle pins, knuckle throwers, and rotors). The components covered by the investigation include: (1) E coupler bodies; (2) E/F coupler bodies; (3) F coupler bodies; (4) E yokes; (5) F yokes; (6) E knuckles; (7) F knuckles; (8) E type follower blocks; and (9) F type follower blocks, as set forth by the Association of American Railroads (AAR). The freight rail coupler components are included within the scope of the investigation when imported individually, or in some combination thereof, such as in the form of a coupler fit (a coupler body and knuckle assembled together), independent from a coupler system.

Subject freight rail car coupler systems and components are included within the scope whether finished or unfinished, whether imported individually or with other subject or non-subject components, whether assembled or unassembled, whether mounted or unmounted, or if joined with non-subject merchandise, such as other non-subject system parts or a completed rail car. Finishing includes, but is not limited to, arc washing, welding, grinding, shot blasting, heat treatment, machining, and assembly of various components. When a subject coupler system or subject components are mounted on or to other non-subject merchandise, such as a rail car, only the coupler system or subject components are covered by the scope.

The finished products covered by the scope of this investigation meet or exceed the AAR specifications of M-211, “Foundry and Product Approval Requirements for the Manufacture of Couplers, Coupler Yokes, Knuckles, Follower Blocks, and Coupler Parts” or AAR M-215 “Coupling Systems,” or other equivalent domestic or international standards (including any revisions to the standard(s)).

The country of origin for subject coupler systems and components, whether fully assembled, unfinished or finished, or attached to a rail car, is the country where the subject coupler components were cast or forged. Subject merchandise includes coupler components as defined above that have been further processed or further assembled, including those coupler components attached to a rail car in third countries. Further processing includes, but is not limited to, arc washing, welding, grinding, shot blasting, heat treatment, painting, coating, priming, machining, and assembly of various components. The inclusion, attachment, joining, or assembly of non-subject components with subject components or coupler systems either in the country of manufacture of the in-scope product or in a third country does not remove the subject components or coupler systems from the scope.

The coupler systems that are the subject of this investigation are currently classifiable in the Harmonized Tariff Schedule of the United States (HTSUS) statistical reporting number 8607.30.1000. Unfinished subject merchandise may also enter under HTSUS statistical reporting number 7326.90.8688. Subject merchandise attached to finished rail cars may also enter under HTSUS statistical reporting numbers 8606.10.0000, 8606.30.0000, 8606.91.0000, 8606.92.0000, 8606.99.0130, 8606.99.0160, or under subheading 9803.00.5000 if imported as an Instrument of International Traffic. These HTSUS subheadings are provided for convenience and customs purposes only; the written description of the scope of the investigation is dispositive.

[FR Doc. 2021-23232 Filed 10-22-21; 8:45 am]

BILLING CODE 3510-DS-P